ENVIRONMENTAL PROTECTION AGENCY

40 CFR Part 55

[EPA-R10-OAR-2009-0799; FRL-9123-1]

Technical Amendment to the Outer Continental Shelf Air Regulations Consistency Update; Correction

AGENCY: Environmental Protection Agency (EPA).

ACTION: Final rule; correction.

SUMMARY: This document contains technical corrections to the final regulations, which were published in the Federal Register of Thursday January 21, 2010. The regulations related to the Consistency Update of the Outer Continental Shelf Air Regulations for Alaska.

DATES: Effective on March 22, 2010.

FOR FURTHER INFORMATION CONTACT: Natasha Greaves, Federal and Delegated Air Programs Unit, Office of Air, Waste, and Toxics, U.S. Environmental Protection Agency, Region 10, 1200 Sixth Avenue, Suite 900, Mail Stop: AWT-107, Seattle, WA 98101; telephone number: (206) 553-7079; e-mail address: greaves.natasha@epa.gov.

SUPPLEMENTARY INFORMATION:

Table of Contents

I. Background Information

II. Need for Correction

I. Background Information

This Notice is to provide a technical correction to the final regulation published at 75 FR 3392, January 21, 2010. The final regulations that are the subject to these corrections are effective on March 22 and affect the State of Alaska Administrative Code (“ACC”) Air Emission User Fee provision in 18 AAC 50.410 as incorporated into 40 CFR Part 55. Alaska revised the Air Emission User Fee provision in 18 AAC 50.410 to extend the date through which the current emission fee rates apply to stationary sources permitted under AS 46.14 from June 30, 2009 to June 30, 2010 and clarified that the fee applies annually. This correction relates only to the air emission user fee provision in 18 AAC 50.410.

II. Need for Correction

As published, the final regulations contained an error which may prove to be misleading and needs to be clarified. The direct final rule in 75 FR 3392 inadvertently stated that Appendix A to 40 CFR part 55 was amended by “revising” Article 4 of paragraph (a)(1) under the heading “Alaska”. The direct final rule should have said that at Appendix A to 40 CFR part 55 was amended by “adding” a provision within Article 4 of paragraph (a)(1) under the heading “Alaska”.

Accordingly, the following correction is made to the final rule published January 21, 2010 (75 FR 3392).

1. On page 3394, in the third column, amendatory instruction 3 is corrected to read as follows:

“3. Appendix A to Part 55 is amended under “Alaska” by revising paragraph (a)(1) introductory text and by adding an entry for “18 AAC 50.410” under article 4 to read as follows:”

Dated: February 25, 2010.
Michelle L. Pirzadeh,
Acting Regional Administrator, Region 10.

[FR Doc. 2010-4558 Filed 3-3-10; 8:45 am]

BILLING CODE 6560-50-P